DEPARTMENT OF THE INTERIOR

U.S. Geological Survey

Agency Information Collection Activities: Comment Request for the USGS Production Estimate, Construction Sand and Gravel and Crushed and Broken Stone

AGENCY: U.S. Geological Survey (USGS), Interior.

ACTION: Notice of an extension of an information collection (1028-0065).

SUMMARY: To comply with the Paperwork Reduction Act of 1995 (PRA), we are notifying the public that we will submit to the Office of Management and Budget (OMB) an information collection request (ICR) for the extension of the currently approved paperwork requirements for the USGS Construction Sand and Gravel and Crushed and Broken Stone. This collection consists of three forms and this notice provides the public an opportunity to comment on the paperwork burden of these forms. We may not conduct or sponsor, and a person is not required to respond to, a collection of information unless it displays a currently valid OMB control number.

DATES: You must submit comments on or before December 8, 2009.

ADDRESSES: Please submit a copy of your comments to Phadrea Ponds, USGS Information Collection Clearance Officer, 2150-C Centre Avenue, Fort Collins, CO 80526-8118 (mail); 970-226-9445 (phone); 970-226-9230 (fax); or pponds@usgs.gov (e-mail). Please reference Information Collection 1028-0065 in the subject line.

FOR FURTHER INFORMATION CONTACT: Shonta E. Osborne at 703-648-7960 or by mail at U.S. Geological Survey, 985 National Center, 12201 Sunrise Valley Drive, Reston, VA 20192.

SUPPLEMENTARY INFORMATION:

Title: Production Estimate, Construction Sand and Gravel and Crushed and Broken Stone.

OMB Control Number: 1028-0065.

Type of Request: Extension of a currently approved collection.

Abstract: This collection is needed to provide data on mineral production for annual reports published by commodity for use by Government agencies, Congressional offices, educational institutions, research organizations, financial institutions, consulting firms, industry, academia, and the general public. This information will be published in the “Mineral Commodity Summaries,” the first preliminary publication to furnish estimates covering the previous year's nonfuel mineral industry.

We will protect information from respondents considered proprietary under the Freedom of Information Act (5 U.S.C. 552) and its implementing regulations (43 CFR Part 2), and under regulations at 30 CFR 250.197, “Data and information to be made available to the public or for limited inspection.” Responses are voluntary. No questions of a “sensitive” nature are asked.

Affected Public: Businesses that produce nonfuel industrial minerals.

Respondent Obligation: Voluntary.

Frequency of Collection: Quarterly and Annually.

Estimated Number of Annual Responses: 2,014.

Annual Burden Hours: 470 hours. We expect to receive 2,014 annual responses. We estimate an average of 10-15 minutes per response. This includes the time for reviewing instructions, gathering and maintaining data, and completing and reviewing the information.

Estimated Reporting and Recordkeeping “Non-Hour Cost” Burden: We have not identified any “non-hour cost” burdens associated with this collection of information.

Public Disclosure Statement: The PRA (44 U.S.C. 3501, et seq.) provides that an agency may not conduct or sponsor and you are not required to respond to, a collection of information unless it displays a currently valid OMB control number. Until OMB approves a collection of information, you are not obligated to respond.

Comments: We are soliciting comments as to: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology.

Please note that the comments submitted in response to this notice are a matter of public record. Before including your address, phone number, e-mail address, or other personal identifying information in your comment, you should be aware that your entire comment, including your personal identifying information, may be made publicly available at any time. While you can ask OMB in your comment to withhold your personal identifying information from public review, we cannot guarantee that it will be done. To comply with the public process, we publish this Federal Register notice announcing that we will submit this ICR to OMB for approval. The notice provided the required 60 day public comment period.

USGS Information Collection Clearance Officer: Phadrea Ponds 970-226-9445.

John H. DeYoung, Jr.,
Chief Scientist, Minerals Information Team, U.S. Geological Survey.

[FR Doc. E9-24443 Filed 10-8-09; 8:45 am]

BILLING CODE 4311-AM-P